FEDERAL DEPOSIT INSURANCE CORPORATION

Establishment of the FDIC Systemic Resolution Advisory Committee

AGENCY: Federal Deposit Insurance Corporation.

ACTION: Notice.

SUMMARY: The Chairman of the Federal Deposit Insurance Corporation (FDIC) is establishing the FDIC Systemic Resolution Advisory Committee (the “SR Advisory Committee”). The SR Advisory Committee will provide advice and recommendations on a broad range of issues regarding the resolution of systemically important financial companies pursuant to Title II of the Dodd-Frank Wall Street Reform and Consumer Protection Act, Public Law 111-203 (July 21, 2010), 12 U.S.C. 5301 et seq. (the “Dodd-Frank Act”). The SR Advisory Committee is also intended to facilitate discussion on how the FDIC's systemic resolution authority, and its implementation, may impact regulated entities and other stakeholders potentially affected by the process. The SR Advisory Committee will serve solely in an advisory capacity and will have no final decision-making authority, nor will it have access to or discuss any non-public, confidential or institution-specific information. The Chairman certifies that the establishment of this advisory committee is in the public interest in connection with the performance of duties imposed on the FDIC by law.

FOR FURTHER INFORMATION CONTACT: Robert E. Feldman, Executive Secretary, FDIC, 550 17th Street, NW., Washington, DC 20429; telephone (202) 898-7043. SR Advisory Committee members will not receive any compensation for their services other than reimbursement for reasonable travel expenses incurred to attend SR Advisory Committee meetings.

SUPPLEMENTARY INFORMATION: In accordance with the requirements of the Federal Advisory Committee Act (“FACA”), 5 U.S.C. App. 2, notice is hereby given that the Chairman of the FDIC intends to establish the FDIC SR Advisory Committee. After consultation with the General Services Administration as required by section 9(a)(2) of FACA and 41 CFR 102-3.65, the Chairman of the FDIC certifies that she has determined that the establishment of the SR Advisory Committee is in the public interest in connection with the performance of duties imposed on the FDIC by law. The SR Advisory Committee will provide advice and recommendations on a broad range of issues regarding the resolution of systemically important financial companies pursuant to the Dodd-Frank Act. The SR Advisory Committee also is intended to facilitate discussion on how the systemic resolution authority, and its implementation, may impact regulated entities and other stakeholders potentially affected by the process. The SR Advisory Committee will function solely as an advisory body, and in compliance with the provisions of FACA. To ensure relevant expertise on the SR Advisory Committee, members of the SR Advisory Committee should include financial market participants and professionals with relevant experience managing large, complex firms, investors, bankruptcy professionals, representatives from the audit, accounting, credit rating, and legal professions, as well as academic and other relevant experts.

Dated at Washington, DC, this 28th day of April 2011.
Federal Deposit Insurance Corporation.
Robert E. Feldman,
Executive Secretary, Federal Deposit Insurance Corporation.

[FR Doc. 2011-10794 Filed 5-3-11; 8:45 am]

BILLING CODE P